DEPARTMENT OF COMMERCE

National Oceanic and Atmospheric Administration

RIN 0648-XF689

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Wednesday, October 4, 2017 at 9 a.m.

ADDRESSES: The meeting will be held at the Fairfield Inn and Suites, 185 MacArthur Drive, New Bedford, MA 02740; phone: (774) 634-2000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Habitat Committee will be briefed on offshore wind projects in various stages of planning and development. This agenda item will include presentations from various companies as well as BOEM staff, and time for questions and discussion. The committee plans to discuss 2018 Council priorities related to habitat and recommend specific priorities to the Council. They will also review recent Plan Development Team (PDT) activity related to the Deep-Sea Coral Amendment, with a focus on development and analysis of broad zone Option 7 as discussed at the June 2017 Council meeting. Provide guidance for additional work. The committee will review recent PDT activity related to the Clam Dredge Framework. Provide guidance for development of management alternatives using updated habitat and clam survey data. They also plan to discuss if there are any habitat-related fishery regulations that could be eliminated, improved, or streamlined. Several recent Executive Orders have been issued about streamlining current regulations, and NOAA is seeking public input on the efficiency and effectiveness of current regulations and whether they can be improved. Other business may be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at 978-465-0492, at least 5 days prior to the meeting date. Consistent with 16 U.S.C. 1852, a copy of the recording is available upon request.

Authority: 16 U.S.C. 1801 et seq.

Dated: September 12, 2017.
Tracey L. Thompson,
Acting Deputy Director, Office of Sustainable Fisheries, National Marine Fisheries Service.

[FR Doc. 2017-19645 Filed 9-14-17; 8:45 am]

BILLING CODE 3510-22-P